DEPARTMENT OF TRANSPORTATION

Federal Aviation Administration

14 CFR Part 39

[Docket No. FAA-2013-0349; Directorate Identifier 2012-SW-058-AD]

RIN 2120-AA64

Airworthiness Directives; Bell Helicopter Textron Canada Inc. Helicopters

AGENCY: Federal Aviation Administration (FAA), DOT.

ACTION: Notice of proposed rulemaking (NPRM).

SUMMARY: We propose to adopt a new airworthiness directive (AD) for certain Bell Helicopter Textron Canada Inc. (BHT) Model 206A, 206B, and 206L helicopters. This proposed AD would require replacing certain part-numbered engine auto-relight kit control boxes. This proposed AD is prompted by a design review that revealed the control box chipset did not meet the required temperature range requirements, which could cause the control box to malfunction, disabling the engine auto-relight system. This condition could result in increased pilot workload during a power loss emergency and subsequent loss of control of the aircraft.

DATES: We must receive comments on this proposed AD by June 21, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

FOR FURTHER INFORMATION CONTACT: Rao Edupuganti, Aviation Safety Engineer, Regulations and Policy Group, Rotorcraft Directorate, FAA, 2601 Meacham Blvd., Fort Worth, Texas 76137; telephone (817) 222-5110; email rao.edupuganti@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada (TC), which is the aviation authority for Canada, has issued TC AD No. CF-2012-19, dated June 12, 2012 (CF-2012-19), to correct an unsafe condition for certain serial numbered BHT Model 206A, 206B, and 206L helicopters with an engine auto-relight kit control box assembly (control box assembly) part number 206-375-017-101 or 206-375-017-103 installed. TC advises that these control box assemblies have a manufacturing defect which could disable the auto-relight system in the event of an engine flameout, subsequently requiring the pilot to re-start the engine manually. This condition could result in increased pilot workload during a power loss emergency in-flight and subsequent loss of control of the helicopter. CF-2012-19 specifies replacing the affected control boxes within 4 months to correct the unsafe condition.

FAA's Determination

These helicopters have been approved by the aviation authority of Canada and are approved for operation in the United States. Pursuant to our bilateral agreement with Canada, TC, its technical representative, has notified us of the unsafe condition described in its AD. We are proposing this AD because we evaluated all known relevant information and determined that an unsafe condition is likely to exist or develop on other products of the same type design.

Related Service Information

BHT has issued Alert Service Bulletin (ASB) No. 206-11-127 for Model 206A and 206B helicopters and ASB No. 206L-11-167 for Model 206L helicopters, both dated May 2, 2011. Both ASBs specify replacing the affected control box assembly with an upgraded control box assembly.

Proposed AD Requirements

This proposed AD would require replacing the control box assembly within 4 months.

Costs of Compliance

We estimate that this proposed AD would affect 1,357 helicopters of U.S. Registry. We estimate that operators may incur the following costs in order to comply with this AD. If installed, replacing the control box assembly would require about 2 work-hours at an average labor rate of $85 per hour and required parts would cost about $18,974, for a cost per helicopter of $19,144.

According to BHT's service information, some of the costs of this proposed AD may be covered under warranty, thereby reducing the cost impact on affected individuals. We do not control warranty coverage by BHT. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron Canada Inc (BHT): Docket No. FAA-2013-0349; Directorate Identifier 2012-SW-058-AD.

(a) Applicability

This AD applies to the following helicopters, certificated in any category:

(1) BHT Model 206A and 206B helicopters, all serial numbers (S/N) except S/Ns 1, 2, and 3, with an engine auto-relight kit control box assembly (control box assembly) part number (P/N) 206-375-017-101 installed; and

(2) BHT Model 206L helicopters, S/N 45001 through 45153 and 46601 through 46617, with a control box assembly P/N 206-375-017-103 installed.

(b) Unsafe Condition

This AD defines the unsafe condition as an inoperative control box assembly. This condition could result in a disabled auto-relight system, failure of the engine to relight after a flame-out, increased pilot workload during a power loss emergency, and subsequent loss of control of the helicopter.

(c) Reserved

(d) Compliance

You are responsible for performing each action required by this AD within the specified compliance time unless it has already been accomplished prior to that time.

(e) Required Actions

Within 4 months, replace the control box assembly:

(1) For Model 206A and 206B helicopters, replace control box assembly P/N 206-375-017-101 with a control box assembly P/N 206-375-017-105.

(2) For Model 206L helicopters, replace control box assembly P/N 206-375-017-103 with a control box assembly P/N 206-375-017-107.

(f) Alternative Methods of Compliance (AMOCs)

(1) The Manager, Safety Management Group, FAA, may approve AMOCs for this AD. Send your proposal to: Rao Edupuganti, Aviation Safety Engineer, Regulations and Policy Group, Rotorcraft Directorate, FAA, 2601 Meacham Blvd., Fort Worth, Texas 76137; telephone (817) 222-5110; email rao.edupuganti@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) BHT Alert Service Bulletin (ASB) No. 206-11-127 for Model 206A and 206B helicopters and ASB No. 206L-11-167 for Model 206L helicopters, both dated May 2, 2011, which are not incorporated by reference, contain additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 2601 Meacham Blvd., Room 663, Fort Worth, Texas 76137.

(2) The subject of this AD is addressed in Transport Canada AD CF-2012-19, dated June 12, 2012.

(h) Subject

Joint Aircraft Service Component (JASC) Code: 7410: Ignition Power Supply.

Issued in Fort Worth, Texas, on April 11, 2013.
Lance T. Gant,
Acting Directorate Manager, Rotorcraft Directorate, Aircraft Certification Service.

[FR Doc. 2013-09415 Filed 4-19-13; 8:45 am]

BILLING CODE 4910-13-P